FEDERAL COMMUNICATIONS COMMISSION

47 CFR Parts 1 and 73

[MB Docket No. 17-106; Report No. 3086]

Petition for Partial Reconsideration of Action in Rulemaking Proceeding

AGENCY: Federal Communications Commission.

ACTION: Petition for reconsideration.

SUMMARY: A Petition for Partial Reconsideration (Petition) has been filed in the Commission's rulemaking proceeding by Dan J. Alpert, on behalf of DA LA HUNT BROADCASTING CORP.

DATES: Oppositions to the Petition must be filed on or before March 13, 2018. Replies to an opposition must be filed on or before March 23, 2018.

ADDRESSES: Federal Communications Commission, 445 12th Street SW, Washington, DC 20554.

FOR FURTHER INFORMATION CONTACT: Diana Sokolow, phone: 202-418-0588, email: Diana.Sokolow@FCC.gov.

SUPPLEMENTARY INFORMATION: This is a summary of the Commission's document, Report No. 3086, released February 15, 2018. The full text of the Petition is available for viewing and copying at the FCC Reference Information Center, 445 12th Street SW, Room CY-A257, Washington, DC 20554. It also may be accessed online via the Commission's Electronic Comment Filing System at: http://apps.fcc.gov/ecfs/. The Commission will not send a Congressional Review Act (CRA) submission to Congress or the Government Accountability Office pursuant to the CRA, 5.U.S.C. because no rules are being adopted by the Commission.

Subject: Elimination of Main Studio Rule, MB Docket No. 17-106, FCC 17-137, published at 82 FR 57876, December 8, 2017. This document is being published pursuant to 47 CFR 1.429(e). See also 47 CFR 1.4(b)(1) and 1.429(f), (g).

Number of Petitions Filed: 1.

Federal Communications Commission.
Marlene H. Dortch,
Secretary, Office of the Secretary.

[FR Doc. 2018-03865 Filed 2-23-18; 8:45 am]

BILLING CODE 6712-01-P